DEPARTMENT OF COMMERCE

National Oceanic and Atmospheric Administration

50 CFR Part 600

[Docket No. 111014628-3329-01]

RIN 0648-BB54

Magnuson-Stevens Act Provisions; Implementation of the Shark Conservation Act of 2010; Correction

AGENCY: National Marine Fisheries Service (NMFS), National Oceanic and Atmospheric Administration (NOAA), Commerce.

ACTION: Proposed rule; extension of comment period; correction.

SUMMARY: NMFS published a proposed rule on May 2, 2013, to implement provisions of the Shark Conservation Act of 2010 (SCA) that prohibit any person from removing any of the fins of a shark at sea, possessing shark fins on board a fishing vessel unless they are naturally attached to the corresponding carcass, transferring or receiving fins from one vessel to another at sea unless the fins are naturally attached to the corresponding carcass, landing shark fins unless they are naturally attached to the corresponding carcass, or landing shark carcasses without their fins naturally attached. NMFS proposes this action to amend existing regulations and make them consistent with the SCA. The public comment period for the proposed rule ends on June 17, 2013. NMFS is extending the public comment period for an additional 21 days, to July 8, 2013, to provide additional time for various stakeholders and other members of the public to submit comments. Additionally, this action corrects technical errors found on page 25688 under the Classification section of the proposed rule.

DATES: The public comment period for the proposed rule published at 78 FR 25685, May 2, 2013, is extended from June 17, 2013, to July 8, 2013. Comments must be received no later than July 8, 2013.

ADDRESSES: You may submit comments on this document, identified by NOAA-NMFS-2012-0092, by any of the following methods:

• Electronic Submission: Submit all electronic public comments via the Federal e-Rulemaking Portal www.regulations.gov. To submit comments via the e-Rulemaking Portal, first click the “submit a comment” icon, then enter NOAA-NMFS-2012-0092 in the keyword search. Locate the document you wish to comment on from the resulting list and click on the “Submit a Comment” icon on the right of that line.

• Mail: Submit written comments to Erin Wilkinson, National Marine Fisheries Service (SF3), NOAA; 1315 East-West Highway, Silver Spring, MD 20910.

• Fax 301-713-1193; Attn: Erin Wilkinson.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Electronic copies of the Environmental Assessment (EA), the Regulatory Impact Review (RIR), and the Initial Regulatory Flexibility Analysis (IRFA) prepared for this action are available on the Federal e-Rulemaking Portal www.regulations.gov.

FOR FURTHER INFORMATION CONTACT: Erin Wilkinson, 301-427-8561; sca.rulemaking@noaa.gov.

SUPPLEMENTARY INFORMATION: On May 2, 2013, NMFS published a proposed rule in the Federal Register (78 FR 25685) to implement provisions of the SCA that prohibit any person from removing any of the fins of a shark at sea, possessing shark fins on board a fishing vessel unless they are naturally attached to the corresponding carcass, transferring or receiving fins from one vessel to another at sea unless the fins are naturally attached to the corresponding carcass, landing shark fins unless they are naturally attached to the corresponding carcass, or landing shark carcasses without their fins naturally attached. NMFS proposes this action to amend existing regulations and make them consistent with the SCA.

Public Comment Extension

The public comment period for the proposed rule ends on June 17, 2013. Several environmental organizations have commented that the proposed rule should identify specific state and territorial shark fin laws, or provisions of those laws that are preempted by Federal law. Federal preemption is based on Congressional intent to preempt state law. Accordingly, the proposed rule set forth NMFS' understanding of Congressional intent with regard to Federal fisheries management under the MSA, which includes Federal shark fin measures in subsection 307(1)(P). As noted in the proposed rule, several states and territories have enacted shark fin laws, which vary, and preemption will depend in part on how states interpret their laws. States and territories are the authorities on the intent and interpretation of their state shark fin laws. NMFS is consulting with the states and territories regarding their laws, possible areas of conflict, and ways to avoid such conflict. See Section 4 of Executive Order 13132 (August 4, 1999) (setting forth special requirements for preemption).

Due to the public concern regarding this action, NMFS extends the public comment period for an additional 21 days until July 8, 2013. The extension of the comment period ensures that NMFS provides adequate time for stakeholders and members of the public to comment on the proposed rule to implement the provisions of the Shark Conservation Act of 2010. As provided in the proposed rule, states have until July 8, 2013, to notify NMFS if the proposed activity is consistent with the Coastal Zone Management Act of 1979, so granting an extension of 21 days does not delay the rule making process.

Need for Correction

Page 25688 of the proposed rule published in the Federal Register on May 2, 2013 included three technical errors.

In paragraph two of column one on page 25688, the preamble states: “In 2011, 243 commercial vessels had shark landings on the west coast and total ex-vessel revenue for west coast shark landings was $349,634. Thus, in 2011, average ex-vessel revenue per vessel from shark landings was approximately $1,450.” This sentence contains incorrect landings data and needs to be corrected.

Paragraph three of column three on page 25688 states: “In 2011, about 620,256 west coast recreational trips (days) by party and charter boats retained about 16 metric tons of sharks.” This sentence also contains incorrect data and needs to be corrected.

Corrections

1. In the Federal Register of May 2, 2013, on page 25688, in the first column, second paragraph, the second sentence is corrected to read as follows:

“In 2011, 243 commercial vessels had shark landings on the west coast and total ex-vessel revenue for west coast shark landings was $357,169. Thus, in 2011, average ex-vessel revenue per vessel from shark landings was approximately $1,470.”

2. On page 25688, in the third column, third paragraph, the second sentence is corrected to read as follows:

“In 2011, about 620,256 west coast recreational trips (days) by party and charter boats retained about 11 metric tons of sharks.”

Authority: 16 U.S.C. 1801 et seq.

Dated: June 11, 2013.
Samuel D. Rauch III,
Deputy Assistant Administrator for Fisheries, performing the functions and duties of the Assistant Administrator for Fisheries, National Marine Fisheries Service.

[FR Doc. 2013-14331 Filed 6-14-13; 8:45 am]

BILLING CODE 3510-22-P